SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 21, 2009.

ADDRESSES: Send all comments regarding whether this information collection is necessary for the proper performance of the function of the agency, whether the burden estimates are accurate, and if there are ways to minimize the estimated burden and enhance the quality of the collection, to Cynthia Pitts, Director, Disaster Administrative Services, Small Business Administration, 409 3rd Street, 6th Floor, Washington, DC 20416.

FOR FURTHER INFORMATION CONTACT: Cynthia Pitts, Director, Disaster Administrative Services 202-205-7570 cynthia.pitts@sba.gov Curtis B. Rich, Management Analyst, 202-205-7030 curtis.rich@sba.gov.

SUPPLEMENTARY INFORMATION: Disaster loans are authorized upon terms and conditions to (1) assure proper use of proceeds, (2) comply with established record keeping requirements, and (3) assure sound credit positions. Record-keeping requirements provide a basis to assure proper use of proceeds and satisfy loan conditions.

Title: “Borrower's Progress Certification.”

Description of Respondents: Recipients of Disaster Loans.

Form Number: 1366.

Annual Responses: 12,078.

Annual Burden: 11,312.

Jacqueline White,
Chief, Administrative Information Branch.

[FR Doc. E9-25226 Filed 10-20-09; 8:45 am]

BILLING CODE P